ENVIRONMENTAL PROTECTION AGENCY

[FRL-7239-4]

Agency Information Collection Activities: Proposed Collection; Comment Request; Estimating the Value of Improvements to Coastal Waters

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Estimating the Value of Improvements to Coastal Waters [EPA ICR#2083.01]. Before submitting the ICR to OMB for review and approval, EPA is soliciting comments on specific aspects of the proposed information collection as described below.

DATES: Comments must be submitted on or before August 27, 2002.

ADDRESSES: Dr. Nicole Owens, National Center for Environmental Economics, US EPA, Mail Code 1809T, 1200 Pennsylvania Avenue, NW, Washington, DC 20460. Interested parties may obtain a copy of the ICR without charge by contacting Dr. Owens at 202-566-2297 or owens.nicole@epa.gov.

FOR FURTHER INFORMATION CONTACT: Dr. Nathalie Simon at 202-566-2299 or simon.nathalie@epa.gov.

SUPPLEMENTARY INFORMATION: Affected entities: Entities potentially affected by this action are those individuals who are contacted and voluntarily agree to participate in the survey. Individuals are contacted from an established panel of respondents who have been randomly recruited from the general public by Knowledge Networks, Inc. Respondents have agreed to participate in periodic surveys administered by Knowledge Networks, Inc.

Title: Estimating the Value of Improvements to Coastal Waters (EPA ICR#2083.01).

Abstract: The purpose of this study is to estimate willingness to pay (WTP) for water quality improvements in coastal waters. The United States Environmental Protection Agency's Office of Water is responsible for regulating and monitoring national water quality. In order to make sound policy decisions, policy makers need information on the benefits, costs, and other effects of alternative options for addressing environmental problems. In the case of policies affecting water quality, estimates of the public's WTP for improvements in fresh water quality generally begin with estimates provided by Mitchell and Carson (1993); however, this study does not address salt water areas.

The coasts and estuaries comprise a substantial part of our national resource base; these coastal areas are depended upon for the aesthetic, economic, ecosystem, and recreational services they provide. However, coastal areas are also the most highly developed and populated areas in the nation. These areas are home to more than 53% of the nation's population. As coastal population has increased, the environmental quality of some of these areas has declined or is threatened. Because serious water pollution problems exist in some of these areas, many future water policies will likely focus on coastal areas. The lack of estimates of the benefits of improvements to these areas makes designing effective policies to remedy these problems particularly difficult.

This study will estimate WTP for water quality improvements in coastal waters using a stated preference survey. Currently, States, tribes, and other jurisdictions measure water quality by determining if water bodies are clean enough to support basic uses, such as swimming, fishing, and aquatic life support. In keeping with these definitions of water quality, the study will estimate WTP for more fishable and swimmable coastal and estuarine waters as well as healthier marine and estuarine aquatic environments. Respondents will be asked a series of five questions in which they compare two programs with the status quo. The programs each affect water quality for the various uses in different ways and cost varying amounts to implement. Analysis of the resulting data will yield WTP estimates for improvements to each of the attributes.

Further development of the survey cannot be completed without a pilot survey. The pilot survey will take place in California using the survey instrument described in more detail below. The survey instrument is specific to the state of California and will be used to estimate WTP for water quality improvements for three specific uses: swimming, production of fish and shellfish safe for human consumption, and support of diverse aquatic life. Once the pilot survey is complete and EPA is confident of the adequacy of the questionnaire, EPA hopes to develop parallel versions of the survey instrument for the remaining 20 coastal states in the contiguous United States as well as a version for inland states. The coastal state versions of the survey will elicit resident's WTP for coastal water improvements within the state. The inland version of the survey will elicit WTP for coastal water improvements generally. While these surveys will not be able to gauge WTP of coastal state residents for improvements outside of their state of residence, it is anticipated that the information gathered from these surveys will nevertheless provide potentially useful information for benefits analysis.

The questionnaire for the California coastal survey is comprised of four distinct parts: an introductory section, a section focusing specifically on California's coastal waters, a section containing the choice questions, and finally a section containing standard questions about labor market activity.

a. Part 1: Introduction

The first section of the survey provides respondents with background information on coastal waters and their uses. Following a welcome statement, the respondent is provided with a concise definition of coastal waters and a detailed description of their natural, commercial and recreational uses in simple tabular form. This table is followed by a map highlighting all of the coastal states in the 48 contiguous states in the U.S. The respondent's familiarity with coastal waters is then gauged through a series of questions about recent trips to coastal waters and water recreation activities. A number of these questions are borrowed from the National Survey on Recreation, allowing direct comparison of results. Similar information is collected for freshwater recreation activities.

b. Part 2: California's Coastal Waters

This section delves into a respondent's familiarity with pollution sources as well as his perception of California's coastal water quality. In addition, it defines and describes the three use categories: swimming, production of fish and shellfish that are safe for human consumption, and support of diverse aquatic life (including fish, shellfish, plants, mammals, birds, etc. that live near aquatic environments). The water quality rating system used by federal and state governments is then described to the respondents and information is given on the ratings California's coastal waters have received for the three defined uses. Information on California's coastal waters is provided in pie charts. The information provided is taken directly from The National Water Quality Inventory Report to Congress (305(b) report).

Comparisons of California's water quality by use with that of other coastal states is provided in a series of three bar charts—one for each use— showing the ranking of states by reported water quality level.

c. Part 3: Choice Questions

The third part of the questionnaire is comprised of the choice questions. Respondents are presented with a series of five questions in which they are asked to select between two programs to improve coastal water quality. In each choice set, respondents are also able to select the status quo, should they find neither of the two programs satisfactory. Each of the two programs has an associated household tax increase to cover the cost of implementation.

Information regarding water quality across three use definitions (swimming, production of fish and shellfish deemed safe for human consumption, and the support of diverse aquatic life) under each program, including the status quo, is provided in tabular format together with the cost to each household for each program. Color is used in the table to help respondents distinguish between the three alternatives. The programs differ not only in the level of household tax, but also in the degree to which they improve water quality across the three use definitions.

The questions are structured in such a way as to facilitate comparison between the programs with at most two water quality attributes varying at different levels across the two new programs being introduced. In some instances, however, respondents are asked to choose between two programs that offer varying magnitudes of uniform changes across uses.

d. Part 4: Labor Market Activity and Demographic Information

The fourth and final section of the survey is comprised not only of demographic questions but also a series of questions borrowed from the standard “Panel Study of Income Dynamics (PSID),” an ongoing survey examining trends in employment and income. Many of these questions ask specifically about the respondents' labor market activity as well as that of spouses. It is our intention to directly compare the responses of the PSID questions from the Knowledge Networks sample to those from the original PSID responses to determine if in fact they are similar. In so doing, we will be able to confirm the representativeness of our survey sample to the population in California.

The series of demographic questions required in our survey instrument is reduced due to the availability of this information from Knowledge Networks. As noted above, Knowledge Networks collects and routinely updates standard demographic information on each panel member and makes this information available to its clients. This reduces the burden on the panel members and shortens the length of the survey.

The pilot study will be conducted using 300 respondents. The survey is designed to collect information through an established panel of respondents using WebTV as the mode of administration. The data will be collected and stored electronically by the survey research firm. Based on previous experience and a limited number of cognitive pretest interviews, it is estimated that each survey will take approximately 30 minutes to complete.

Responses to the survey will be voluntary. Typically, panel members are free to choose whether or not to respond to any particular survey as long as they meet survey quotas set in their agreement with the research firm. The survey will fully conform to federal regulations—specifically the Privacy Act of 1974 (5 U.S.C. 552a), the Hawkins-Stafford Amendments of 1988 (Pub. L. 100-297), and the Computer Security Act of 1987.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The proposed pilot survey will take advantage of an existing, pre-recruited panel of respondents. Thus, the only burden imposed by the pilot survey on respondents will be the time required to complete the survey. Based upon pretest interviews, the survey developers estimate that this will involve an average of 30 minutes per respondents. With a total of 300 respondents for the pilot survey this involves a total of 150 hours. Based on an average hourly rate of $22.15 (including employer costs of all employee benefits), the survey developers expect that the average per-respondent cost for the pilot survey will be $11.08 and the corresponding one-time total cost to all respondents will be $3324.00. Since this information collection is voluntary and does not involve any special equipment, respondents will not incur any capital or operation and maintenance (O&M) costs.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 12, 2002.
Al McGartland,
Office Director, National Center for Environmental Economics, Office of Policy, Economics and Innovation.

[FR Doc. 02-16359 Filed 6-27-02; 8:45 am]

BILLING CODE 6560-50-P